POSTAL SERVICE

39 CFR Part 111

Domestic Mail: New Postal Rates and Fees

AGENCY: Postal Service.

ACTION: Notice of implementation of new domestic rates and fees.

SUMMARY: The Governors of the U.S. Postal Service accepted the Postal Rate Commission's recommendation to increase most postal rates and fees by approximately 5.4 percent. The Board of Governors set 12:01 a.m. Sunday, January 8, 2006, as the effective date for the new prices.

EFFECTIVE DATE: 12:01 a.m., Sunday, January 8, 2006.

FOR FURTHER INFORMATION CONTACT: Sherry Suggs, 202-268-7261.

SUPPLEMENTARY INFORMATION: On April 8, 2005, the Postal Service filed with the Postal Rate Commission a Request for a Recommended Decision on Changes in Rates of Postage and Fees. The Commission designated the filing as Docket No. R2005-1. On November 1, 2005, the Commission issued its Opinion and Recommended Decision. The Governors approved all of the Commission's recommendations on November 14, 2005. Based on the decision of the Governors and Resolution No. 05-9 of the Board of Governors, the Postal Service adopts the new rates and fees and sets an effective date of 12:01 a.m., January 8, 2006.

This price increase is the first since 2002. It is needed to fulfill a Federal law passed in 2003 that requires the Postal Service to place $3.1 billion in escrow by September 30, 2006.

Customers can find resources and additional information about the price change at usps.com/ratecase. A special issue of the Postal Bulletin with detailed information, new rate and fee tables, and revised “EZ” (simplified) postage statements will be available online December 1, 2005. The Postage Rate Calculators at pe.usps.com will reflect new rates and fees beginning January 8, 2006.

The Postal Service adopts the following new rates and fees. Conforming changes will be made throughout Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise Mailing Standards of the United States Postal Service, Domestic Mail Manual (DMM), to adopt the following new rates and fees.

Stanley F. Mires,
Chief Counsel, Legislative.

BILLING CODE 7710-12-P

[FR Doc. 05-23488 Filed 12-1-05; 8:45 am]

BILLING CODE 7710-12-C